JUDICIAL CONFERENCE OF THE UNITED STATES

Adjustment of Certain Dollar Amounts Applicable to Bankruptcy Cases

AGENCY: Judicial Conference of the United States.

ACTION: Notice of adjusted dollar amounts.

SUMMARY: Certain dollar amounts in the United States Code applicable to bankruptcy cases are adjusted to reflect the change in the Consumer Price Index for All Urban Consumers for the most recent 3-year period ending immediately before January 1, 2025.

DATES: The dollar amounts are adjusted on April 1, 2025.

FOR FURTHER INFORMATION CONTACT: Gary D. Streeting, Senior Attorney, Judicial Services Office, Administrative Office of the United States Courts, Thurgood Marshall Federal Judiciary Building, One Columbus Circle NE, Room 4-270, Washington, DC 20544, Telephone (202) 502-1800, or by email at Judicial_Services_Office@ao.uscourts.gov.

SUPPLEMENTARY INFORMATION: Section 104 of title 11, United States Code, provides for an automatic three-year adjustment of dollar amounts in certain sections of titles 11 and 28. Notice is hereby given, pursuant to 11 U.S.C. 104(b), that the next such adjustment will occur on April 1, 2025. Effective on that date, the dollar amounts in effect under sections 101(3), 101(18), 101(19A), 101(51D), 109(e), 303(b), 507(a), 522(d), 522(f)(3), 522(f)(4), 522(n), 522(p), 522(q), 523(a)(2)(C), 541(b), 547(c)(9), 707(b), 1182(1), 1322(d), 1325(b), and 1326(b)(3) of title 11, and section 1409(b) of title 28, United States Code, are adjusted as set forth in the chart below to reflect the change in the Consumer Price Index for All Urban Consumers, published by the Department of Labor, for the 3-year period ending immediately before January 1, 2025, rounded to the nearest $25. This adjustment does not apply with respect to cases commenced before April 1, 2025. Seven Official Bankruptcy Forms (106C, 107, 122A-2, 122C-2, 201, 207, and 410) and two Director's Forms (2000 and 2830) will also be amended to reflect these adjusted dollar amounts.

(Authority: 11 U.S.C. 104.)

Dated: January 30, 2025.
Joseph T. Phillips,
Chief, Judicial Services Office.

Affected sections of Titles 11 and 28 U.S.C. | Dollar amount to be adjusted | New (adjusted) dollar amount ¹
11 U.S.C.:
Section 101(3) | $226,850 | $256,800.
Section 101(18) | $11,097,350 (each time it appears) | $12,562,250 (each time it appears).
Section 101(19A) | $2,268,550 (each time it appears) | $2,568,000 (each time it appears).
Section 101(51D) | $3,024,725 (each time it appears) | $3,424,000 (each time it appears).
Section 109(e) | $465,275 (each time it appears) | $526,700 (each time it appears).
| $1,395,875 (each time it appears) | $1,580,125 (each time it appears).
Section 303(b) | $18,600 (each time it appears) | $21,050 (each time it appears).
Section 507(a)
paragraph (4) | $15,150 | $17,150.
paragraph (5)(B)(i) | $15,150 | $17,150.
paragraph (6) | $7,475 | $8,450.
paragraph (7) | $3,350 | $3,800.
Section 522(d)
paragraph (1) | $27,900 | $31,575.
paragraph (2) | $4,450 | $5,025.
paragraph (3) | $700 $14,875 | $800. $16,850.
paragraph (4) | $1,875 | $2,125.
paragraph (5) | $1,475 $13,950 | $1,675. $15,800.
paragraph (6) | $2,800 | $3,175.
paragraph (8) | $14,875 | $16,850.
paragraph (11)(D) | $27,900 | $31,575.
Section 522(f)(3) | $7,575 | $8,575.
Section 522(f)(4) | $800 (each time it appears) | $900 (each time it appears).
Section 522(n) | $1,512,350 | $1,711,975.
Section 522(p) | $189,050 | $214,000.
Section 522(q) | $189,050 | $214,000.
Section 523(a)(2)(C)
paragraph (i)(I) | $800 | $900.
paragraph (i)(II) | $1,100 | $1,250.
Section 541(b) | $7,575 (each time it appears) | $8,575 (each time it appears).
Section 547(c)(9) | $7,575 | $8,575.
Section 707(b)
paragraph (2)(A)(i)(I) | $9,075 | $10,275.
paragraph (2)(A)(i)(II) | $15,150 | $17,150.
paragraph (2)(A)(ii)(IV) | $2,275 | $2,575.
paragraph (2)(B)(iv)(I) | $9,075 | $10,275.
paragraph (2)(B)(iv)(II) | $15,150 | $17,150.
paragraph (5)(B) | $1,525 | $1,725.
paragraph (6)(C) | $825 | $925.
paragraph (7)(A)(iii) | $825 | $925.
Section 1182(1) | ⁽²⁾ |
Section 1322(d) | $825 (each time it appears) | $925 (each time it appears).
Section 1325(b) | $825 (each time it appears) | $925 (each time it appears).
Section 1326(b)(3) | $25 | $25.
28 U.S.C.:
Section 1409(b) | $1,525 | $1,725.
| $22,700 | $27,750.
| $25,700 | $31,425
¹ The New (Adjusted) Dollar Amounts reflect a 13.2004 percent increase, rounded to the nearest $25.
² There is no dollar amount currently set forth in 11 U.S.C. 1182(1). Most recently, the Bankruptcy Threshold Adjustment and Technical Corrections Act (BTATCA) (Pub. L. 117-151, 136 Stat. 1298) added a dollar amount to that section, but the BTATCA provision that included the dollar amount sunset on June 21, 2024.

[FR Doc. 2025-02207 Filed 2-3-25; 8:45 am]

BILLING CODE 2210-55-P